DEPARTMENT OF LABOR

Office of Workers' Compensation Programs

Advisory Board on Toxic Substances and Worker Health

AGENCY: Office of Workers' Compensation Programs.

ACTION: Announcement of telephonic meeting of the Advisory Board on Toxic Substances and Worker Health (Advisory Board) for the Energy Employees Occupational Illness Compensation Program Act (EEOICPA).

SUMMARY: The Advisory Board will meet February 28, 2019, via teleconference, from 2:00 p.m. to 5:00 p.m. Eastern time.

Submissions of comments and materials for the record, and requests for special accommodations: You must submit (postmark, send, transmit) comments, materials, and requests for special accommodations for the meetings by February 21, 2019.

FOR FURTHER INFORMATION CONTACT: For press inquiries: Ms. Laura McGinnis, Office of Public Affairs, U.S. Department of Labor, Room S-1028, 200 Constitution Ave. NW, Washington, DC 20210; telephone (512) 396-6652; email mcginnis.laura@dol.gov.

SUPPLEMENTARY INFORMATION: The Advisory Board will meet telephonically on Thursday, February 28, 2019, from 2:00 p.m. to 5:00 p.m. Eastern time. Advisory Board members will attend the meeting by teleconference. The teleconference number and other details for participating remotely will be posted on the Advisory Board's website, http://www.dol.gov/owcp/energy/regs/compliance/AdvisoryBoard.htm, 72 hours prior to the commencement of the first meeting date. Advisory Board meetings are open to the public.

The Advisory Board is mandated by Section 3687 of EEOICPA. The Secretary of Labor established the Board under this authority and Executive Order 13699 (June 26, 2015). The purpose of the Advisory Board is to advise the Secretary with respect to: (1) The Site Exposure Matrices (SEM) of the Department of Labor; (2) medical guidance for claims examiners for claims with the EEOICPA program, with respect to the weighing of the medical evidence of claimants; (3) evidentiary requirements for claims under Part B of EEOICPA related to lung disease; and (4) the work of industrial hygienists and staff physicians and consulting physicians of the Department of Labor and reports of such hygienists and physicians to ensure quality, objectivity, and consistency. The Advisory Board sunsets on December 19, 2024.

The Advisory Board operates in accordance with the Federal Advisory Committee Act (FACA) (5 U.S.C. App. 2) and its implementing regulations (41 CFR part 102-3).

Agenda: The tentative agenda for the Advisory Board meeting includes:

• Discuss the recommendation responses and requests for information provided by the program;

• Discuss the draft Occupational History Questionnaire;

• Discuss recent Procedure Manual changes;

• Discuss status of working group projects; and

• Administrative issues raised by Advisory Board functions and future Advisory Board activities.

OWCP transcribes and prepares detailed minutes of Advisory Board meetings. OWCP will post the transcripts and minutes on the Advisory Board web page, http://www.dol.gov/owcp/energy/regs/compliance/AdvisoryBoard.htm, along with written comments, speaker presentations, and other materials submitted to the Advisory Board or presented at Advisory Board meetings.

Public Participation, Submissions, and Access to the Public Record

Advisory Board meetings: The Advisory Board will meet via teleconference on Thursday, February 28, 2019, from 2:00 p.m. to 5:00 p.m. Eastern time. All Advisory Board meetings are open to the public. The teleconference number and other details for listening to the meeting will be posted on the Advisory Board's website no later than 72 hours prior to the meeting, at http://www.dol.gov/owcp/energy/regs/compliance/AdvisoryBoard.htm.

Requests for special accommodations: Please submit requests for special accommodations to access the telephonic Advisory Board meeting by email, telephone, or hard copy to Ms. Carrie Rhoads, OWCP, Room S-3524, U.S. Department of Labor, 200 Constitution Ave. NW, Washington, DC 20210; telephone (202) 343-5580; email EnergyAdvisoryBoard@dol.gov.

Submission of written comments for the record: You may submit written comments, identified as for the Advisory Board and with the meeting date of February 28, 2019, by any of the following methods:

• Electronically: Send to: EnergyAdvisoryBoard@dol.gov (specify in the email subject line, “Advisory Board Meeting February 28, 2019”).

• Mail, express delivery, hand delivery, messenger, or courier service: Submit one copy to the following address: U.S. Department of Labor, Office of Workers' Compensation Programs, Advisory Board on Toxic Substances and Worker Health, Room S-3522, 200 Constitution Ave. NW, Washington, DC 20210. Due to security-related procedures, receipt of submissions by regular mail may experience significant delays.

Comments must be received by February 21, 2019. OWCP will make available publically, without change, any written comments, including any personal information that you provide. Therefore, OWCP cautions interested parties against submitting personal information such as Social Security numbers and birthdates.

Electronic copies of this Federal Register notice are available at http://www.regulations.gov. This notice, as well as news releases and other relevant information, are also available on the Advisory Board's web page at http://www.dol.gov/owcp/energy/regs/compliance/AdvisoryBoard.htm.

FOR FURTHER INFORMATION CONTACT: You may contact Douglas Fitzgerald, Designated Federal Officer, at fitzgerald.douglas@dol.gov, or Carrie Rhoads, Alternate Designated Federal Officer, at rhoads.carrie@dol.gov, U.S. Department of Labor, 200 Constitution Avenue NW, Suite S-3524, Washington, DC 20210, telephone (202) 343-5580. This is not a toll-free number.

Signed at Washington, DC.
Julia K. Hearthway,
Director, Office of Workers' Compensation Programs.

[FR Doc. 2019-01165 Filed 2-5-19; 8:45 am]

BILLING CODE 4510-24-P